FEDERAL ELECTION COMMISSION

Sunshine Act Meetings

AGENCY: Federal Election Commission.

Federal Register Citation of Previous Announcement: 77 FR 26759 (May 7, 2012).

Date and Time: Thursday, May 10, 2012 at 10:00 a.m.

Place: 999 E Street NW., Washington, DC, (ninth floor).

Status: This meeting will be open to the public.

Changes in the Meeting: The following item has been added to the agenda:

Draft Advisory Opinion 2012-08: Repledge Individuals who plan to attend and require special assistance, such as sign language interpretation or other reasonable accommodations, should contact Shawn Woodhead Werth, Secretary and Clerk, at (202) 694-1040, at least 72 hours prior to the hearing date.

Person to Contact for Information: Judith Ingram, Press Officer, Telephone: (202) 694-1220.

Shawn Woodhead Werth,
Secretary of the Commission.

[FR Doc. 2012-11325 Filed 5-8-12; 11:15 am]

BILLING CODE 6715-01-P